DEPARTMENT OF COMMERCE

National Oceanic and Atmospheric Administration

50 CFR Part 679

[Docket No. 200227-0066]

RTID 0648-XY089

Fisheries of the Exclusive Economic Zone Off Alaska; Pollock in the Herring Savings Areas of the Bering Sea and Aleutian Islands Management Area

AGENCY: National Marine Fisheries Service (NMFS), National Oceanic and Atmospheric Administration (NOAA), Commerce.

ACTION: Temporary rule; closure.

SUMMARY: NMFS is prohibiting directed fishing for pollock by vessels using trawl gear in the Herring Savings Areas of the Bering Sea and Aleutian Islands (BSAI). This action is necessary to prevent exceeding the 2020 herring bycatch allowance specified for the midwater trawl pollock fishery in the BSAI. This action includes prohibiting directed fishing for pollock by vessels participating in the Community Development Quota Program.

DATES: Effective 1200 hours, Alaska local time (A.l.t.), June 15, 2020, through 1200 hours, A.l.t., March 1, 2021.

FOR FURTHER INFORMATION CONTACT: Obren Davis, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2020 herring bycatch allowance specified for the midwater trawl pollock fishery in the BSAI is 2,299 metric tons as established by the final 2020 and 2021 harvest specifications for groundfish in the BSAI (85 FR 13553, March 9, 2020).

The Administrator, Alaska Region, NMFS, has determined that the 2020 herring bycatch allowance specified for the midwater trawl pollock fishery in the BSAI has been caught. Consequently, in accordance with § 679.21(e)(7)(vi), NMFS is closing directed fishing for pollock by vessels using trawl gear in the three Herring Savings Areas of the BSAI. The Summer Herring Savings Area 1 is that part of the Bering Sea subarea that is south of 57° North latitude and between 162° W longitude and 164° W longitude from 1200 hours, A.l.t., June 15, 2020 through 1200 hours, A.l.t., July 1, 2020. The Summer Herring Savings Area 2 is that part of the Bering Sea subarea that is south of 56°30″ North latitude and between 164° W longitude and 167° W longitude from 1200 hours, A.l.t., July 1, 2020 through 1200 hours A.l.t., August 15, 2020. The Winter Herring Savings Area is that part of the Bering Sea subarea that is between of 58° and 60° North latitude and between 172° W longitude and 175° W longitude from 1200 hours, A.l.t., September 1, 2020 through 1200 hours, A.l.t., March 1, 2021.

While this closure is effective the maximum retainable amounts at § 679.20(e) and (f) apply at any time during a trip.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of directed fishing for pollock by vessels using trawl gear in the Summer and Winter Herring Savings Areas of the BSAI. NMFS was unable to publish a notice providing time for public comment because the most recent, relevant data only became available as of June 3, 2020.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: June 5, 2020.
Hélène M.N. Scalliet,
Acting Director, Office of Sustainable Fisheries, National Marine Fisheries Service.

[FR Doc. 2020-12566 Filed 6-9-20; 8:45 am]

BILLING CODE 3510-22-P